DEPARTMENT OF THE TREASURY

United States Mint

Notification of Platinum Bullion Coin Premium Increase

ACTION: Notification of Platinum Bullion Coin Premium Increase.

SUMMARY: The United States Mint is increasing the premiums for purchases of uncirculated American Eagle Platinum Bullion Coins to its Authorized Purchasers.

Pursuant to the authority that 31 U.S.C. 5112(k) grants to the Secretary of the Treasury to mint and issue platinum coins, the United States Mint mints and issues 1 ounce, ½ ounce, ¼ ounce, and ⅒ ounce platinum coins known as “American Eagle Platinum Bullion” coins. The United States Mint sells these coins at a price equal to the daily price of the platinum content of the coin, plus a premium. Effective April 1, 2005, the United States Mint will increase the premiums on uncirculated American Eagle Platinum Bullion coins from 3%, 5%, 7%, and 9% for the 1 ounce, ½ ounce, ¼ ounce, and ⅒ ounce coins, respectively, to 4%, 6%, 10%, and 15% for the 1 ounce, ½ ounce, ¼ ounce, and ⅒ ounce coins, respectively.

FOR FURTHER INFORMATION CONTACT: Gregory Hafner, United States Mint American Eagle Bullion Coin Program Manager; 801 Ninth Street, NW., Washington, DC 20220, or call 202-354-7524.

Authority: 31 U.S.C. 5112.

Dated: April 1, 2005.
Henrietta Holsman Fore,
Director, United States Mint.

[FR Doc. 05-7016 Filed 4-7-05; 8:45 am]

BILLING CODE 4810-37-P